DEPARTMENT OF AGRICULTURE

Forest Service

Lincoln National Forest; New Mexico; Integrated Non-Native Invasive Plant Management

AGENCY: Forest Service, USDA.

ACTION: Notice of intent to prepare an environmental impact statement.

SUMMARY: The Lincoln National Forest will prepare an environmental impact statement to document and disclose projected effects of its management strategy for treating non-native invasive plants (NNIP) across the Forest. This strategy utilizes several management tools, including registered herbicides, biological treatments (biological controls and controlled grazing), and manual and/or mechanical methods. The strategy is adaptive, allowing for the treatment of new NNIP infestations and use of new treatment options, including new herbicides.

DATES: Comments concerning the scope of the analysis must be received by July 11, 2016. The draft environmental impact statement is expected February 2017 and the final environmental impact statement is expected August 2017.

ADDRESSES: Send written comments to the Aurora Roemmich, Integrated Non-Native Invasive Plant Management Project, Lincoln National Forest, 3462 La Palomas Road, Alamogordo, NM 88310. Comments may also be sent via email to http://www.fs.usda.gov/project/?project=31150, or via facsimile to (575) 434-7218. For email comments, go to the right-hand side “Get Connected”, click “Comment on Project” to submit comments on this project.

FOR FURTHER INFORMATION CONTACT: Jennie O'Connor Card, Interdisciplinary Team Leader at (406) 522-2537 or by email at jennieoconnorcard@fs.fed.us or Aurora Roemmich, Forest Botanist, Lincoln National Forest at (575) 434-7266 or aurorarroemmich@fs.fed.us.

Individuals who use telecommunication devices for the deaf (TDD) may call the Federal Information Relay Service (FIRS) at 1-800-877-8339 between 8 a.m. and 8 p.m., Eastern Time, Monday through Friday.

SUPPLEMENTARY INFORMATION:

Purpose and Need for Action

Executive Order 13112, Forest Service Manual 2900, and Lincoln National Forest Land and Resource Management Plan (Forest Plan), provide direction related to the management of invasive species. Executive Order 13112 directs Federal agencies to prevent and control invasive species and to minimize their economic, ecological, and human health impacts. The order provides for restoration of native species and habitat conditions in ecosystems that have been invaded by non-native invasive species.

A non-native invasive plant species is defined as any terrestrial or aquatic plant species occurring outside its natural range that is likely to cause economic or environmental harm or harm to human health. If a native plant species is deemed a noxious weed by the New Mexico Department of Agriculture or another agency because it is likely to cause economic or environmental harm or harm to human health, then the species would also be considered for treatment under this analysis and decision.

The overall purpose of this project is to implement a management strategy that uses an integrated selection of techniques designed to prevent the introduction of and control the spread of non-native invasive plants (NNIP). A second purpose is to ensure that the strategy is adaptive, allowing for the treatment of new NNIP infestations and use of new treatment options, including new herbicides, because future NNIP management needs may be different. As such, there are underlying needs to:

1. Utilize the most effective and economical strategies to treat NNIP while protecting valued resources to the greatest practical extent; and,

2. Adapt management techniques to accommodate new NNIP infestations and treatment options, including new herbicides, within the scope of this analysis and resulting decision.

Proposed Action

The proposed action presents a forest-wide integrated weed management (IWM) strategy, for the prevention, eradication, suppression, and reduction of existing and future non-native invasive plant infestations. The IWM strategy is based on ecological factors and includes consideration of site conditions, other resource values, resource uses, NNIP characteristics, and potential effectiveness of control measures for specific circumstances.

The proposed action includes a wide range of treatment methods including options to use a combination of methods on the same site. It also was developed to minimize the risk of adverse impacts through resource protection measures. These resource protection measures are designed to minimize, avoid or mitigate adverse effects which could occur as a result of implementing proposed NNIP treatments on the Forest. The resource protection measures are based on Forest Plan direction and policy, best available science, and site-specific evaluations.

Selection of the most appropriate treatment practice, or combination of treatments, depends on numerous factors, including the size of the infestation, risk of NNIP expansion, species biology, environmental setting, potential impacts to other resources, and management objectives. Treatment practices available for use would include manual, mechanical, biological, and chemical treatments. Chemical treatments include hand/selective and broadcast herbicide applications (including aerial application). Aerial herbicide application by helicopter could be used in selected locations of the Forest including designated wilderness areas. Aerial application provides a means to effectively treat infestations in isolated areas rapidly and efficiently, dramatically reducing the threat of further establishment or expansion.

The project also includes an adaptive management strategy to determine treatment of identified and future NNIP infestations. This adaptive management strategy consists of two principle components: The ability to effectively treat new infestations as they are detected; and, the ability to incorporate new technology as it becomes available.

Forest Plan Amendment

This project would require an amendment to the Lincoln National Forest Land and Resource Management Plan (Forest Plan). The project proposes use of herbicides in places and under conditions that were not foreseen when the existing Forest Plan standards and guidelines were developed in 1986. To meet the purpose and need for this project, it may be necessary to apply herbicide treatments to areas infested with non-native invasive plant species.

This amendment would change forestwide standards and guidelines applicable to all areas for wildlife (pages 31-34), grazing management (page 35 and replacement page 35B), soil and water (pages 40-41), fire and protection (replacement page 55), all species (pages 205-206), Mexican spotted owl (replacement page 206A), peregrine falcon (page 207), and northern goshawk (replacement page 208A and 208E). The amendment also would change standards and guidelines related to protection in management area 1C Capitan Mountains Wilderness (replacement page 62), management area 1F White Mountain Wilderness (replacement page 70), management area 1H RNA William G. Telfer Research Natural Area (page 77), and management area 3A RNA Upper McKittrick RNA (page 115). If adopted, this would be the eigthtennth amendment to the Forest Plan since its inception in 1986.

Responsible Official

The Responsible Official for this project is the Lincoln National Forest, Forest Supervisor.

Nature of Decision To Be Made

The Responsible Official will decide whether to adopt and implement the proposed action, an alternative to the proposed action, or take no action. The Responsible Official also will decide whether or not to amend the Forest Plan.

Scoping Process

This notice of intent initiates the scoping process, which guides the development of the environmental impact statement. It is important that reviewers provide their comments at such times and in such a manner that they are useful to the agency's preparation of the environmental impact statement. Therefore, comments should be provided prior to the close of the comment period and should clearly articulate the reviewer's concerns and contentions.

This proposed project is an activity implementing a land management plan and is subject to the objection process described in 36 CFR 218 Subparts A and B. As such, individuals and organizations wishing to be eligible to file a predecisional objection must meet the information requirements in 36 CFR 218.25(a)(3). Names and contact information submitted with comments will become part of the public record and may be released under the Freedom of Information Act. Comments submitted anonymously will be accepted and considered, however.

Dated: June 3, 2016.
Barry L. Imler,
Acting Forest Supervisor.

[FR Doc. 2016-13669 Filed 6-8-16; 8:45 am]

BILLING CODE 3411-15-P